DEPARTMENT OF TRANSPORTATION

Federal Highway Administration

[Docket No. FHWA-2016-0012]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by June 27, 2016.

ADDRESSES: You may submit comments identified by DOT Docket ID Number 2016-0012 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Mark Ferroni, 202-366-3233, or Aileen Varela-Margolles, 202-366-1701, Office of Environment, Planning and Realty, Federal Highway Administration, Department of Transportation, 1200 New Jersey Avenue SE., Washington, DC 20590. Office hours are from 7 a.m. to 5 p.m., Monday through Friday, except Federal holidays.

SUPPLEMENTARY INFORMATION: Title: Comment collection on the draft Traffic Noise Model's (TNM) 3.0 Model Performance and Usability.

Background: 23 CFR 772 Procedures for Abatement of Highway Traffic Noise and Construction Noise Section 772.9(a) states that `any analysis required by this subpart must use the FHWA [Federal Highway Administration] Traffic Noise Model (TNM)'. This noise model is required for conducting traffic noise impact analysis in accordance with 23 CFR 772.11 and 23 CFR 772.13.

As part of FHWAs ongoing efforts to address traffic noise impacts of highway projects on local communities, FHWA recently completed a new version of TNM. The draft TNM version 3.0 features a new User Interface (UI), updated acoustical information, and interoperability with the software packages for Esri's ArcGIS®, AutoDesk's AutoCAD®, and Bentley's MicroStation®. FHWA is releasing TNM version 3.0 as a draft to provide the public with an opportunity to use the model and become familiar with its functionality and UI. FHWA will review any comments and make necessary adjustment to the model before releasing a final version for use in highway noise impact analysis for Federal Aid Highway projects in the future.

The release of the draft TNM version 3.0 builds upon an earlier beta test by eight State Departments of Transportation (Georgia, Michigan, Minnesota, North Carolina, Ohio, Texas, Virginia, and Washington State). The beta testers provided valuable input to further improve the model's UI. By releasing the draft TNM version 3.0, FHWA is allowing users to provide comments and feedback on the model in general including the model's functionality, its interface with the software packages and its usability for a variety of project types. In order to encourage users to submit their comments, FHWA will set up an online portal on FHWA TNM version 3.0 Web site (http://www.fhwa.dot.gov/environment/noise/traffic_noise_model/tnm_v30/) to collect comments in several broad categories such as functionality and aesthetics of the UI, interoperability with the external software packages, and the performance of the updated acoustics. This online portal will contain standardized questions to guide the public to submit their comments. It is this portal and its questions which are the subject of this OMB ICR FR Notice.

Persons who elect to provide comments on the draft TNM version 3.0 will have to download the free software via the FHWA TNM version 3.0 Web site at: http://www.fhwa.dot.gov/environment/noise/traffic_noise_model/tnm_v30/. Participation by using the model and providing comments is entirely voluntary.

Respondents: Approximately 200 participants including the 52 State DOTs, consultant/contractors, researchers, academia and other interested transportation and environmental stakeholders.

Frequency: As needed. It is expected that users will input comments when they review the draft TNM version 3.0.

Estimated Average Burden per Response: Estimated time is approximately two weeks (80 hours) per participant over six months. Time will depend on the number and complexity of the situations the user is modeling.

Estimated Total Annual Burden Hours: Approximately 64,000 hours over six months.

Public Comments Invited: You are asked to comment on any aspect of this information collection, including: (1) Whether the proposed collection is necessary for the FHWA's draft TNM version 3.0 model performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: April 22, 2016.
Michael Howell,
Information Collections Officer.

[FR Doc. 2016-09944 Filed 4-27-16; 8:45 am]

BILLING CODE 4910-22-P